DEPARTMENT OF ENERGY

Federal Energy Regulatory Commission

[Docket Nos. CP14-119-003; CP14-120-003]

Notice of Request for Extension of Time: Trunkline Gas Company, LLC; Lake Charles LNG Company, LLC; Lake Charles LNG Export Company, LLC

Take notice that on April 11, 2025, Lake Charles LNG Company, LLC; Lake Charles LNG Export Company, LLC (collectively, Lake Charles LNG); and Trunkline Gas Company, LLC (Trunkline; collectively, the Applicants) requested that the Commission grant an extension of time, until December 31, 2031, to construct and place into service its Liquefaction Project and Pipeline Modifications Project (collectively, the Project) located in Arkansas, Mississippi, and Louisiana as authorized in the Order Granting Section 3 and Section 7 Authorizations and Approving Abandonment (Order).¹ The Order required Trunkline to complete construction of the Pipeline Modifications Project and make it available for service within four years of the date of the Order, or by December 17, 2019; the Order further required Lake Charles LNG to complete construction of the Liquefaction Project and make it available for service within five years of the date of the Order, or by December 17, 2020.

¹ Lake Charles LNG Company, LLC, et al., 153 FERC ¶ 61,300 (2015), reh'g denied, 155 FERC ¶ 61,328 (2016) (Order).

On December 5, 2019, the Commission granted the Applicants an extension of time until December 16, 2025 to complete construction of the Project and make it available for service.² The Commission has subsequently granted a second extension of time, making December 17, 2028 the current date for the Project to be constructed and placed into service.³

² Lake Charles LNG Company, LLC, et al., Docket Nos. CP14-119-000, et al., delegated letter order (December 5, 2019).

³ Lake Charles LNG Company, LLC, et al., 179 FERC ¶ 61,086 at P 21 (2022).

The Applicants experienced delays due to the effects of COVID-19, changes in global demand for liquefied natural gas (LNG), material development of a Project sponsor resulting in Energy Transfer LP (Energy Transfer) assuming 100% of the Project, and the need to re-engage engineering, procurement, and construction contractors.

The Applicants state that it, along with Energy Transfer, have made significant progress toward execution of a commercially viable level of long-term commercial agreements with LNG offtake customers for the Project and reaching a final investment decision (FID). The Applicants state that numerous Project construction-related activities have been, and continue to be, undertaken. The Applicants assert that the FID requires that all Commission authorization remain in full force and effect during construction of the Project; thus, it requests a three-year extension, until December 31, 2031, to complete the Project and place it into service.

This notice establishes a 15-calendar day intervention and comment period deadline. Any person wishing to comment on the Applicants' request for an extension of time may do so. No reply comments or answers will be considered. If you wish to obtain legal status by becoming a party to the proceedings for this request, you should, on or before the comment date stated below, file a motion to intervene in accordance with the requirements of the Commission's Rules of Practice and Procedure (18 CFR 385.214 or 385.211) and the Regulations under the Natural Gas Act (NGA) (18 CFR 157.10).

As a matter of practice, the Commission itself generally acts on requests for extensions of time to complete construction for NGA facilities when such requests are contested before order issuance. For those extension requests that are contested,⁴ the Commission will aim to issue an order acting on the request within 45 days.⁵ The Commission will address all arguments relating to whether the applicant has demonstrated there is good cause to grant the extension.⁶ The Commission will not consider arguments that re-litigate the issuance of the certificate order, including whether the Commission properly found the project to be in the public convenience and necessity and whether the Commission's environmental analysis for the certificate complied with the National Environmental Policy Act (NEPA).⁷ At the time a pipeline requests an extension of time, orders on certificates of public convenience and necessity are final and the Commission will not re-litigate their issuance.⁸ The Director of the Office of Energy Projects, or his or her designee, will act on all of those extension requests that are uncontested.

⁴ Contested proceedings are those where an intervenor disputes any material issue of the filing. 18 CFR 385.2201(c)(1).

⁵ Algonquin Gas Transmission, LLC, 170 FERC ¶ 61,144, at P 40 (2020).

⁶ Id. at P 40.

⁷ Similarly, the Commission will not re-litigate the issuance of an NGA section 3 authorization, including whether a proposed project is not inconsistent with the public interest and whether the Commission's environmental analysis for the permit order complied with NEPA.

⁸ Algonquin Gas Transmission, LLC, 170 FERC ¶ 61,144, at P 40 (2020).

In addition to publishing the full text of this document in the Federal Register, the Commission provides all interested persons an opportunity to view and/or print the contents of this document via the internet through the Commission's Home Page (http://www.ferc.gov). From the Commission's Home Page on the internet, this information is available on eLibrary. The full text of this document is available on eLibrary in PDF and Microsoft Word format for viewing, printing, and/or downloading. To access this document in eLibrary, type the docket number excluding the last three digits of this document in the docket number field.

User assistance is available for eLibrary and the Commission's website during normal business hours from FERC Online Support at (202) 502-6652 (toll free at 1-866-208-3676) or email at ferconlinesupport@ferc.gov, or the Public Reference Room at (202) 502-8371, TTY (202) 502-8659. Email the Public Reference Room at public.referenceroom@ferc.gov.

The Commission strongly encourages electronic filings of comments in lieu of paper using the “eFile” link at http://www.ferc.gov. In lieu of electronic filing, you may submit a paper copy which must reference the Project docket number.

To file via USPS: Debbie-Anne A. Reese, Secretary, Federal Energy Regulatory Commission, 888 First Street NE, Washington, DC 20426.

To file via any other courier: Debbie-Anne A. Reese, Secretary, Federal Energy Regulatory Commission, 12225 Wilkins Avenue, Rockville, Maryland 20852.

The Commission's Office of Public Participation (OPP) supports meaningful public engagement and participation in Commission proceedings. OPP can help members of the public, including landowners, community organizations, Tribal members and others, access publicly available information and navigate Commission processes. For public inquiries and assistance with making filings such as interventions, comments, or requests for rehearing, the public is encouraged to contact OPP at (202) 502-6595 or OPP@ferc.gov.

Comment Date: 5 p.m. Eastern Time on May 6, 2025.

Dated: April 21, 2025.
Debbie-Anne A. Reese,
Secretary.

[FR Doc. 2025-07150 Filed 4-24-25; 8:45 am]

BILLING CODE 6717-01-P